SMALL BUSINESS ADMINISTRATION

13 CFR Part 124

Tribal Consultations for Consolidation of Mentor Protégé Programs and Other Government Contracting Amendments (RIN 3245-AG94)

AGENCY: U.S. Small Business Administration.

ACTION: Notice of tribal consultation meetings.

SUMMARY: The U.S. Small Business Administration (SBA) announces that it is holding tribal consultation meetings in Minneapolis, Minnesota, Anchorage, Alaska, Albuquerque, New Mexico, and Oklahoma City, Oklahoma concerning the proposed revisions to the 8(a) Business Development (BD) program regulations. Testimony presented at these tribal consultations will become part of the administrative record for SBA's consideration when the Agency deliberates on approaches to changes in the regulations pertaining to the 8(a) BD program.

DATES: The Tribal Consultation meeting dates are as follows:

1. Tuesday, December 10, 2019, 10:00 a.m. to 2:00 p.m. (CST), Minneapolis, Minnesota. The pre-registration deadline for this Tribal Consultation meeting is December 6, 2019.

2. Wednesday, January 8, 2020, 10:00 a.m. to 4:00 p.m. (AKST), Anchorage, Alaska. The pre-registration deadline for this Tribal Consultation meeting is January 2, 2020.

3. Tuesday, January 14, 2020, 10:00 a.m. to 2:00 p.m. (MST), Albuquerque, New Mexico. The pre-registration deadline for this Tribal Consultation meeting is January 7, 2020.

4. Thursday, January 16, 2020, 10:00 a.m. to 2:00 p.m. (CST), Oklahoma City, Oklahoma. The pre-registration deadline for this Tribal Consultation meeting is January 9, 2020.

ADDRESSES:

1. The Tribal Consultation meeting in Minneapolis, Minnesota will be held at the SBA Minnesota District Office, Training Center, 330 Second Avenue South, Minneapolis, MN 55401.

2. The Tribal Consultation meeting in Anchorage, Alaska will be held at the Z.J. Loussac Public Library, 3600 Denali Street, Anchorage, AK 99503.

3. The Tribal Consultation meeting in Albuquerque, New Mexico will be held at the Indian Pueblo Cultural Center, 2401 12th Street NW, Albuquerque, New Mexico 87104.

4. The Tribal Consultation meeting in Oklahoma City, Oklahoma will be held at the Francis Tuttle Technology Center, Corporate Training Center Building, 12777 North Rockwell Avenue, Oklahoma City, OK 73142.

5. Send pre-registration requests to attend and/or testify to Chequita Carter of SBA's Office of Native American Affairs, U.S. Small Business Administration, 409 3rd Street SW, Washington, DC 20416; Chequita.Carter@sba.gov; or Facsimile to (202) 481-2177.

6. You may submit comments, identified by RIN 3245-AG94, by any of the following methods:

• Federal eRulemaking Portal: http://www.regulations.gov and follow the instructions for submitting comments.

• Mail (for paper, disk, or CD-ROM submissions): To Brenda Fernandez, Office of Procurement Policy and Liaison, U.S. Small Business Administration, 409 3rd Street SW, Washington, DC 20416; or Brenda.Fernandez@sba.gov.

Instructions: All submissions received must include the agency name and docket number or Regulatory Information Number (RIN) for this rulemaking. All comments received will be posted on http://www.regulations.gov. If you wish to submit confidential business information (CBI) as defined in the User Notice at http://www.regulations.gov, please submit the comments to Brenda Fernandez and highlight the information that you consider to be CBI and explain why you believe this information should be held confidential. SBA will make a final determination as to whether the comments will be published or not.

FOR FURTHER INFORMATION CONTACT: Chequita Carter, Program Assistant for SBA's Office of Native American Affairs, at Chequita.Carter@sba.gov or (202) 205-6680 or by facsimile to (202) 481-2177.

SUPPLEMENTARY INFORMATION:

I. Background

On November 8, 2019 (84 FR 60846), SBA issued a proposed rule contemplating substantive changes to the regulations governing the 8(a) BD program (13 CFR 124), publicly available at https://www.govinfo.gov/content/pkg/FR-2019-11-08/pdf/2019-23141.pdf. The proposed rule would consolidate the All Small Mentor Protégé Program and the 8(a) Mentor Protégé Program into one program to eliminate confusion and remove duplicative functions within SBA. This proposed rule would also eliminate the requirement that 8(a) Participants seeking to be awarded a competitive 8(a) contract as a joint venture must submit the joint venture agreement to SBA for review and approval prior to contract award. Additionally, this rule proposes to make several changes to the 8(a) BD program regulations to eliminate confusion or reduce unnecessary or excessive burdens on 8(a) applicants and Participants owned and controlled by tribes, Alaska Native Corporations (ANCs), Native Hawaiian Organizations (NHOs), and Community Development Corporations (CDCs). Among other things, such changes would eliminate the prior approval requirement for changes of ownership involving the insertion or removal of a wholly-owned business entity between the tribe/ANC/CDC and the Participant, simplify the rules pertaining to a tribe/ANC/NHO/CDC owning more than one Participant in the 8(a) BD program, clarify the 8(a) BD program admission requirements governing how a tribally-owned applicant may demonstrate that it possesses the necessary potential for success, revise the rules regarding excessive withdrawals in the context of pro-rata distributions to non-disadvantaged minority owners of entity-owned 8(a) Participants, and authorize an appeal process under which a Participant could challenge an SBA-initiated change to its primary industry classification. SBA is seeking comments and input on the various approaches and changes identified in the proposed rule.

II. Tribal Consultation Meeting

The purpose of these tribal consultation meetings is to conform to the requirements of Executive Order 13175, Tribal Consultations; to provide interested parties with an opportunity to discuss their views on the issues; and for SBA to obtain the views of SBA's stakeholders on proposed approaches to the 8(a) BD program regulations. SBA considers tribal consultation meetings a valuable component of its deliberations and believes that these tribal consultation meetings will allow for constructive dialogue with the Tribal community, Tribal Leaders, Tribal Elders, elected members of Alaska Native Villages or their appointed representatives, and principals of tribally-owned and ANC-owned firms participating in the 8(a) BD program.

The format of these tribal consultation meetings will consist of a panel of SBA representatives who will preside over the session. The oral and written testimony as well as any comments SBA receives will become part of the administrative record for SBA's consideration. Written testimony may be submitted in lieu of oral testimony. SBA will analyze the testimony, both oral and written, along with any written comments received. SBA officials may ask questions of a presenter to clarify or further explain the testimony. Testimony received at these tribal consultations will guide SBA's review process and may potentially develop new proposals. SBA requests that the comments focus on SBA's proposed rulemaking relating to the 8(a) BD program, general issues as they pertain to the 8(a) BD regulations, or the unique concerns of the Tribal or native communities. SBA requests that commenters do not raise issues pertaining to other SBA small business programs. Presenters are encouraged to provide a written copy of their testimony. SBA will accept written material that the presenter wishes to provide that further supplements his or her testimony. Electronic or digitized copies are encouraged.

Each tribal consultation meeting will be held for one day. The meeting in Minneapolis, Minnesota will begin at 10:00 a.m. and end at 2:00 p.m. (CST); the meeting in Anchorage, Alaska will begin at 10:00 a.m. and end at 4:00 p.m. (AKST), with a break from 12:30 p.m. to 1:30 p.m.; the meeting in Albuquerque, New Mexico will begin at 10:00 a.m. and end at 2:00 p.m. (MST); and the meeting in Oklahoma City, Oklahoma will begin at 10:00 a.m. and end at 2:00 p.m. (CST). SBA will adjourn early if all those scheduled have delivered their testimony.

III. Registration

SBA respectfully requests that any elected or appointed representative of the tribal communities or principal of a tribally-owned or ANC-owned 8(a) firm that is interested in attending please pre-register in advance and indicate whether you would like to testify at the hearing. Registration requests should be received by SBA no later than: December 6, 2019 for the consultation meeting in Minneapolis; January 2, 2020 for the consultation meeting in Anchorage; January 7, 2020 for the consultation meeting in Albuquerque; and January 9, 2020 for the consultation meeting in Oklahoma City. Please submit registration requests in writing to Chequita Carter of SBA's Office of Native American Affairs at Chequita.Carter@sba.gov or by facsimile to (202) 481-2177. If you are interested in testifying please include the following information relating to the person testifying: Name, Organization affiliation, Address, Telephone number, Email address and Fax number. SBA will attempt to accommodate all interested parties that wish to present testimony. Based on the number of registrants it may be necessary to impose time limits to ensure that everyone who wishes to testify has the opportunity to do so. SBA will confirm in writing the registration of presenters and attendees.

IV. Information on Service for Individuals With Disabilities

For information on facilities or services for individuals with disabilities or to request special assistance at the tribal consultation meeting, contact Chequita Carter at the telephone number or email address indicated under the FOR FURTHER INFORMATION CONTACT section of this notice.

Authority: 15 U.S.C. 634 and E.O. 13175, 65 FR 67249.

Shawn Pensoneau,
Assistant Administrator for the Office of Native American Affairs.

[FR Doc. 2019-26293 Filed 12-4-19; 8:45 am]

BILLING CODE P